DEPARTMENT OF LABOR

Office of Workers' Compensation Programs

Proposed Extension of Existing Collection; Comment Request; Correction

ACTION: Notice; Correction.

SUMMARY: The Department of Labor, Office of Workers' Compensation Programs is submitting a correction to the notice published in the Federal Register of February 9, 2012 (77 FR 6824). The document contained incorrect information.

FOR FURTHER INFORMATION CONTACT: Yoon Ferguson, 202-693-0701.

Corrections

1. In the Federal Register of February 9, 2012, in FR Doc. 2012-2997, on page 6824, in the first column, correct the “Dates” caption to read:

DATES: Written comments must be submitted to the office listed in the ADDRESSES section below on or before June 4, 2012.

2. In the Federal Register of February 9, 2012, in FR Doc. 2012-2997, on page 6824, in the second column, correct the ”Supplementary Information” caption to read:

I. Background: The Office of Workers' Compensation Programs (OWCP) administers the Federal Employees' Compensation Act (FECA) and the Longshore and Harbor Workers' Compensation Act (LHWCA). These acts provide vocational rehabilitation services to eligible workers with disabilities. 5 U.S.C. 8111(b) of the FECA provides that OWCP may pay an individual undergoing vocational rehabilitation a maintenance allowance, not to exceed $200 a month. 33 U.S.C. 908(g) of the LHWCA provides that person(s) undergoing such vocational rehabilitation shall receive maintenance allowances as additional compensation, not to exceed $25 a week. Form OWCP-17 is used to collect information necessary to decide the amount of any maintenance allowance to be paid. This information collection is currently approved for use through June 30, 2012.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions: The Department of Labor seeks the approval for the extension of this currently approved information collection in order to carry out its responsibility to assure payment of compensation benefits to injured workers at the proper rate.

Type of Review: Extension.

Agency: Office of Workers' Compensation Programs.

Title: Rehabilitation Maintenance Certificate.

OMB Number: 1240-0012.

Agency Number: OWCP-17.

Affected Public: Individuals or households.

Total Respondents: 603.

Total Annual Responses: 5,022.

Average Time per Response: 10 minutes.

Estimated Total Burden Hours: 837.

Total Burden Cost (operating/maintenance): $2,411.

Comments submitted in response to this notice will be summarized and/or included in the request for Office of Management and Budget approval of the information collection request; they will also become a matter of public record.

Dated: April 2, 2012.
Vincent Alvarez,
Agency Clearance Officer, Office of Workers' Compensation Programs, U.S. Department of Labor.

[FR Doc. 2012-8223 Filed 4-4-12; 8:45 am]

BILLING CODE 4510-CR-P